OFFICE OF THE UNITED STATES TRADE REPRESENTATIVE

[Docket No. USTR-2019-0003]

Notice of Modification of Section 301 Action: Enforcement of U.S. World Trade Organization (WTO) Rights in Large Civil Aircraft Dispute

AGENCY: Office of the United States Trade Representative.

ACTION: Notice of modification of action.

SUMMARY: On June 26, 2020, the U.S. Trade Representative announced a review of the action being taken to enforce U.S. World Trade Organization (WTO) rights in the Large Civil Aircraft dispute and requested public comments on possible modifications. Based on this review, the U.S. Trade Representative has determined to modify the list of products subject to additional duties of 25 percent ad valorem. At this time, the U.S. Trade Representative has determined to maintain the current levels of additional duties.

DATES: The modifications to the Section 301 action set out in Annex 1 are applicable with respect to products that are entered for consumption, or withdrawn from warehouse for consumption, on or after 12:01 a.m. eastern daylight savings time on September 1, 2020.

FOR FURTHER INFORMATION CONTACT: For questions about the investigation and modifications announced in this notice, contact Associate General Counsel Megan Grimball, (202) 395-5725, or Director for Europe Michael Rogers, at (202) 395-3320. For questions on customs procedures or the classification of products identified in the annexes, contact Traderemedy@cbp.dhs.gov.

SUPPLEMENTARY INFORMATION:

A. Proceedings in the Investigation

On April 12, 2019, the U.S. Trade Representative announced the initiation of an investigation to enforce U.S. rights in the World Trade Organization (WTO) dispute against the EU and certain EU member States addressed to subsidies on large civil aircraft. See 84 FR 15028 (April 12 notice). The April 12 notice contains background information on the investigation and the dispute settlement proceedings.

The April 12 notice solicited comments on a proposed determination that, inter alia, the EU and certain member States have denied U.S. rights under the WTO Agreement, and in particular, under Articles 5 and 6.3 of the Agreement on Subsidies and Countervailing Measures (SCM Agreement) and the General Agreement on Tariffs and Trade 1994 (GATT 1994), and have failed to comply with the WTO Dispute Settlement Body (DSB) recommendations to bring the WTO-inconsistent subsidies into compliance with WTO obligations. The April 12 notice invited public comment on a proposed action in the form of an additional ad valorem duty of up to 100 percent on products of EU member States to be drawn from a list of 317 tariff subheadings and 9 statistical reporting numbers of the Harmonized Tariff Schedule of the United States (HTSUS) included in the annex to that notice.

On July 5, 2019, USTR published a notice inviting public comment on a second list of products also being considered for an additional ad valorem duty of up to 100 percent. See 84 FR 32248 (July 5, 2019).

On October 2, 2019, the WTO Arbitrator issued a report that concluded that the appropriate level of countermeasures in response to the WTO-inconsistent launch aid provided by the EU or certain member States to their large civil aircraft domestic industry is approximately $7.5 billion annually.

On October 9, 2019, the U.S. Trade Representative published a determination that the EU and certain member States have denied U.S. rights under the WTO Agreement and have failed to implement DSB recommendations concerning certain subsidies to the EU large civil aircraft industry. The U.S. Trade Representative determined to take action in the form of additional duties on products of certain member States of the EU, at levels of 10 or 25 percent ad valorem, effective October 18, 2019. See 84 FR 54245 (October 9, 2019) and 84 FR 55998 (October 18, 2019).

On December 12, 2019, the U.S. Trade Representative announced a review of the action and invited public comments regarding potential revisions. See 84 FR 67992 (December 12, 2019).

On February 14, 2020, the U.S. Trade Representative announced a determination to modify the list of non-aircraft products subject to 25 percent duty and to increase duties on certain large civil aircraft from 10 to 15 percent, effective March 5 and March 18, respectively. See 85 FR 10204 (Feb. 21, 2020) and 85 FR 14517 (March 12, 2020).

On June 26, 2020, the U.S. Trade Representative published a notice announcing another review of the action and establishing a docket to receive public comments. See 85 FR 38488. The June 26 notice included a proposal to impose additional duties of up to 100 percent on a new list of products of France, Germany, Spain and the United Kingdom, covered by 30 tariff subheadings with an approximate annual trade value of $3.1 billion. See 85 FR 38488 (June 26, 2020) and 85 FR 39661 (July 1, 2020). The notice invited interested persons to comment on whether products of specific current or former EU member States should be removed from the list of products subject to additional duties or should remain on the list; if a product remains on the list, whether the current rate of additional duty should be increased to as high as 100 percent; and whether additional products should be added to the list. In response to the notice, USTR received approximately 24,000 public comments.

B. Revision of Action

Section 306(b)(2)(B)(i) of the Trade Act of 1974, as amended, provides in pertinent part that the “Trade Representative shall periodically revise the [retaliation] list or action to affect other goods of the country or countries that have failed to implement the [WTO Dispute Settlement Body] recommendation.” Section 306(b)(2)(B)(ii) provides that no revision is required under section 306(b)(2)(B) if the U.S. Trade Representative determines that implementation of the DSB's recommendations is imminent, or the U.S. Trade Representative agrees with the affected industry concerned that revision of the list is not necessary.

The U.S. Trade Representative has not determined that the circumstances set forth in section 306(b)(2)(B)(ii) currently apply, and accordingly has determined to revise the action being taken in the investigation. The EU has not taken any action on six of the launch aid measures found in the WTO compliance proceedings to continue to be WTO-inconsistent. Furthermore, although the European Commission recently announced amendments to French and Spanish Airbus A350 XWB launch aid contracts, these actions do not implement the DSB's recommendations by withdrawing the subsidies received by Airbus.

Section 306(b)(2)(D) provides in pertinent part that in revising any list or action, the U.S. Trade Representative “shall act in a manner that is most likely to result in the country or countries implementing the recommendations adopted in the dispute settlement proceeding or in achieving mutually satisfactory solution to the issue that gave rise to the dispute settlement proceeding.”

The modifications to the Section 301 action announced in this Notice are in accordance with the statutory objective, and take into account the public comments, any advice of advisory committees, and the advice of the Section 301 committee. In accordance with section 306(b)(2)(F) of the Trade Act (19 U.S.C. 2416(b)(2)(F)), the revised action includes reciprocal goods of the affected industry. The annual trade value of the tariff subheadings subject to additional duties under the revised action remains at approximately $7.5 billion, which is consistent with the WTO Arbitrator's finding on the appropriate level of countermeasures.

As specified in the Annex 1 to this notice, the U.S. Trade Representative has determined to alter the composition of the list of non-aircraft products subject to additional duties. The level of additional duties on non-aircraft products will remain at 25 percent. In addition, the additional duty on certain large civil aircraft will remain at 15 percent.

Annex 1 to this Notice identifies the products affected by the revised action, the rate of duty to be assessed, and the current or former EU member States affected. Annex 2, section 1, contains the unofficial descriptive list of the revisions made by this Notice. Annex 2, section 2, contains an unofficial, consolidated description of the action, reflecting the changes in Annex 1.

In order to implement this determination, effective September 1, 2020, subchapter III of chapter 99 of the HTSUS is modified by Annex 1 to this notice. The additional duties provided for in the HTSUS subheadings established by Annex 1 apply in addition to all other applicable duties, fees, exactions, and charges.

Any product listed in Annex 1 to this notice, except any product that is eligible for admission under `domestic status' as defined in 19 CFR 146.43, which is subject to the additional duty imposed by this determination, and is admitted into a U.S. foreign trade zone on or after 12:01 a.m. eastern daylight savings time on September 1, 2020, only may be admitted as `privileged foreign status' as defined in 19 CFR 146.41. Such products will be subject upon entry for consumption to any ad valorem rates of duty or quantitative limitations related to the classification under the applicable HTSUS subheading.

The U.S. Trade Representative will continue to consider the action taken in this investigation. As stated in the February 21, 2020, notice, the U.S. Trade Representative has determined that the action may be revised as appropriate immediately upon any imposition of additional duties on U.S. products in connection with the Large Civil Aircraft dispute or with the EU's WTO challenge to the alleged subsidization of U.S. large civil aircraft.

Joseph Barloon,
General Counsel, Office of the U.S. Trade Representative.

Annex 1

A. Effective with respect to goods entered for consumption, or withdrawn from warehouse for consumption, on or after 12:01 a.m. eastern daylight time September 1, 2020, U.S. note 21 to subchapter III of chapter 99 of the Harmonized Tariff Schedule of the United States is modified as provided herein:

1. U.S. note 21(a) to such subchapter is modified by deleting “9903.89.52” each place that it appears and inserting “9903.89.55” in lieu thereof.

2. U.S. note 21(e) to such subchapter is modified by deleting “0406.90.99”.

3. U.S. note 21(l) to such subchapter is modified by inserting “1905.31.00” in numerical order.

4. U.S. note 21(n) to such subchapter is modified by deleting “1905.31.00”.

5. U.S. note 21(q) to such subchapter is modified by deleting “subheading 8214.90.60” and inserting “subheadings 2007.99.05, 2007.99.10, 2007.99.15, 2007.99.20, 2007.99.25, 2007.99.35, 2007.99.60, or 8214.90.60” in lieu thereof.

6. U.S. note 21 to such subchapter is modified by inserting in alphabetical order:

“(r) Subheading 9903.89.55 and superior text thereto shall apply to all products of Austria, Belgium, Bulgaria, Croatia, Cyprus, Czech Republic, Denmark, Estonia, Finland, Germany, Hungary, Ireland, Italy, Latvia, Lithuania, Luxembourg, Malta, Netherlands, Portugal, Romania, Slovakia, Slovenia, Spain, Sweden, or the United Kingdom that are classified in subheading 0406.90.99.”

B. Effective with respect to goods entered for consumption, or withdrawn from warehouse for consumption, on or after 12:01 a.m. eastern daylight time September 1, 2020, the following new tariff provisions are inserted in numerical sequence in subchapter III of chapter 99, with the material in the following new tariff provisions inserted in the columns entitled “Heading/Subheading”, “Article Description”, and “Rates of Duty 1-General”, respectively:

Heading/ subheading | Article description | Rates of duty: 1: General | Rates of duty: 1: Special | Rates of duty: 2
9903.89.55 | “Articles the product of Austria, Belgium, Bulgaria, Croatia, Cyprus, Czech Republic, Denmark, Estonia, Finland, Germany, Hungary, Ireland, Italy, Latvia, Lithuania, Luxembourg, Malta, Netherlands, Portugal, Romania, Slovakia, Slovenia, Spain, Sweden, or the United Kingdom: Provided for in subheadings enumerated in U.S. note 21(r) to this subchapter | The duty provided in the applicable subheading + 25%”

Annex 2

Section 1—Descriptive List of Changes From Annex 1

Note: The product descriptions that are contained this Annex are provided for informational purposes only, and are not intended to delimit in any way the scope of the action, except as specified below. In all cases, the formal language in Annex 1 governs the tariff treatment of products covered by the action. Section 1 of this Annex describes the changes to the action that were undertaken as a result of Annex 1, as reflected in the informal list presented in Section 2 of this Annex.

Any questions regarding the scope of particular HTS subheadings should be referred to U.S. Customs and Border Protection. In the product descriptions, the abbreviation “nesoi” means “not elsewhere specified or included”.

The following changes are made effective September 1, 2020.

(a) The following product has been removed from Part 4 of the descriptive list in Section 2.

HTS subheading | Product description
0406.90.99 | Cheeses & subst. for cheese (incl. mixt.), nesoi, w/o cows milk, w/butterfat over 0.5 percent by wt, not subject to GN15.

(b) The following product has been inserted into Part 11 of the descriptive list in Section 2.

HTS subheading | Product description
1905.31.00 | Sweet biscuits.

(c) The following product has been deleted from Part 13 of the descriptive list in Section 2.

HTS subheading | Product description
1905.31.00 | Sweet biscuits.

(d) The following products have been added to the action, and have been inserted into Part 16 of the descriptive list in Section 2.

HTS subheading | Product description
2007.99.05 | Lingonberry and raspberry jams.
2007.99.10 | Strawberry jam.
2007.99.15 | Currant and other berry jams, nesoi.
2007.99.20 | Apricot jam.
2007.99.25 | Cherry jam.
2007.99.35 | Peach jam.
2007.99.60 | Strawberry pastes and purees, being cooked preparations.

(e) Part 17 has been inserted into the descriptive list in Section 2.

HTS subheading | Product description
0406.90.99 | Cheeses & subst. for cheese (incl. mixt.), nesoi, w/o cows milk, w/butterfat over 0.5 percent by wt, not subject to GN15.

Section 2—Descriptive List of Action, Reflecting Changes as Described in Annex 1

Note: The product descriptions that are contained this Annex are provided for informational purposes only, and are not intended to delimit in any way the scope of the action, except as specified below. In all cases, the formal language in Annex 1 and the notices published at 84 FR 54245 and 84 FR 55998 governs the tariff treatment of products covered by the action.

Any questions regarding the scope of particular HTS subheadings should be referred to U.S. Customs and Border Protection. In the product descriptions, the abbreviation “nesoi” means “not elsewhere specified or included”.

Part 1—Products of France, Germany, Spain, or the United Kingdom described below are subject to additional import duties of 15 percent ad valorem.

Note: For purposes of the 8-digit subheading of HTS listed below, the product description defines and limits the scope of the proposed action.

HTS subheading | Product description
8802.40.00 ** | New airplanes and other new aircraft, as defined in U.S. note 21(b), (other than military airplanes or other military aircraft), of an unladen weight exceeding 30,000 kg (described in statistical reporting numbers 8802.40.0040, 8802.40.0060 or 8802.40.0070).
** Only a portion of HS8 digit is to be covered.

Part 2—Products of Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0403.10.50 | Yogurt, in dry form, whether or not flavored or containing added fruit or cocoa, not subject to gen note 15 or add. US note 10 to Ch.4.
0403.90.85 | Fermented milk o/than dried fermented milk or o/than dried milk with added lactic ferments.
0403.90.90 | Curdled milk/cream/kephir & other fermentd or acid. milk/cream subject to add US note 10 to Ch.4.
0405.20.20 | Butter substitute dairy spreads, over 45% butterfat weight, subject to quota pursuant to chapter 4 additional US note 14.
0406.10.28 | Fresh (unripened/uncured) cheddar cheese, cheese/subs for cheese cont or proc from cheddar cheese, not subj to Ch4 US note 18, not GN15.
0406.10.54 | Fresh (unripened/uncured) Italian-type cheeses from cow milk, cheese/substitutes containing such Italian-type cheeses or processed therefrom, subj to Ch4 US note 21, not subject to general note 15.
0406.10.58 | Fresh (unrip./uncured) Italian-type cheeses from cow milk, cheese/substitutes cont or proc therefrom, not subj to Ch4 US note 21 or GN15.
0406.10.68 | Fresh (unripened/uncured) Swiss/Emmentaler cheeses, except those with eye formation, gruyere-process cheese and cheese cont or proc. from such, not subject to additional US note 22 to ch4.
0406.20.51 | Romano, reggiano, provolone, provoletti, sbrinz and goya, made from cow's milk, grated or powdered, subject to additional US note 21 to Ch.4.
0406.20.53 | Romano, reggiano, provolone, provoletti, sbrinz and goya, made from cow's milk, grated or powdered, not subject to Ch4 US note 21 or GN15.
0406.20.69 | Cheese containing or processed from american-type cheese (except cheddar), grated or powdered, subject to additional US note 19 to Ch. 4.
0406.20.77 | Cheese containing or processed from italian-type cheeses made from cow's milk, grated or powdered, subject to additional US note 21 to Ch. 4.
0406.20.79 | Cheese containing or processed from italian-type cheeses made from cow's milk, grated or powdered, not subject to additional US note 21 to Ch. 4.
0406.20.87 | Cheese (including mixtures), nesoi, n/o 0.5 percent by wt. of butterfat, grated or powdered, not subject to additional US note 23 to Ch. 4.
0406.20.91 | Cheese (including mixtures), nesoi, o/0.5 percent by wt of butterfat, w/cow's milk, grated or powdered, not subject to additional US note 16 to Ch. 4.
0406.30.05 | Stilton cheese, processed, not grated or powdered, subject to additional US note 24 to Ch. 4.
0406.30.18 | Blue-veined cheese (except roquefort), processed, not grated or powdered, not subject to gen. note 15 or additional US note 17 to Ch. 4.
0406.30.28 | Cheddar cheese, processed, not grated or powdered, not subject to gen note 15 or to additional US note 18 to Ch. 4.
0406.30.34 | Colby cheese, processed, not grated or powdered, subject to additional US note 19 to Ch. 4.
0406.30.38 | Colby cheese, processed, not grated or powdered, not subject to gen note 15 or additional US note 19 to Ch. 4.
0406.30.55 | Processed cheeses made from sheep's milk, including mixtures of such cheeses, not grated or powdered.
0406.30.69 | Processed cheese containing or processed from american-type cheese (except cheddar), not grated/powdered, subject to additional US note 19 to Ch. 4, not subject to GN15.
0406.30.79 | Processed cheese containing or processed from Italian-type, not grated/powdered, not subject to additional US note 21 to Ch. 4, not GN15.
0406.40.44 | Stilton cheese, nesoi, in original loaves, subject to additional US note 24 to Ch. 4.
0406.40.48 | Stilton cheese, nesoi, not in original loaves, subject to additional US note 24 to Ch. 4.
0406.90.32 | Goya cheese from cow's milk, not in original loaves, nesoi, not subject to gen. note 15 or to additional US note 21 to Ch. 4.
0406.90.43 | Reggiano, Parmesan, Provolone, and Provoletti cheese, nesoi, not from cow's milk, not subject to gen. note 15.
0406.90.52 | Colby cheese, nesoi, subject to additional US note 19 to Ch. 4 and entered pursuant to its provisions.
0406.90.54 | Colby cheese, nesoi, not subject to gen. note 15 or to add. US note 19 to Ch. 4.
0406.90.68 | Cheeses & subst. for cheese(incl. mixt.), nesoi, w/romano/reggiano/parmesan/provolone/etc, f/cow milk, not subj. Ch4 US note 21, not GN15.
0406.90.72 | Cheeses & subst. for cheese (incl. mixt.), nesoi, w/ or from blue-veined cheese, subj. to add. US note 17 to Ch.4, not GN15.
0406.90.74 | Cheeses & subst. for cheese (incl. mixt.), nesoi, w/ or from blue-veined cheese, not subj. to add. US note 17 to Ch.4, not GN15.
0406.90.82 | Cheeses & subst. for cheese (incl. mixt.), nesoi, w/ or from Am. cheese except cheddar, subj. to add. US note 19 to Ch.4, not GN15.
0406.90.92 | Cheeses & subst. for cheese (incl. mixt.), nesoi, w/ or from swiss, emmentaler or gruyere, not subj. Ch4 US note 22, not GN15.
0406.90.94 | Cheeses & subst. for cheese (incl. mixt.), nesoi, w/butterfat n/o 0.5 percent by wt, not subject to additional US note 23 to Ch. 4, not GN15.
0805.10.00 | Oranges, fresh or dried.
0805.21.00 | Mandarins and other similar citrus hybrids including tangerines, satsumas, clementines, wilkings, fresh or dried.
0805.22.00 | Clementines, fresh or dried, other.
0805.50.20 | Lemons, fresh or dried.
0812.10.00 | Cherries, provisionally preserved, but unsuitable in that state for immediate consumption.
0813.40.30 | Cherries, dried.
1602.49.10 | Prepared or preserved pork offal, including mixtures.
1605.53.05 | Mussels, containing fish meats or in prepared meals.
1605.56.05 | Products of clams, cockles, and arkshells containing fish meat; prepared meals.
1605.56.10 | Razor clams, in airtight containers, prepared or preserved, nesoi.
1605.56.15 | Boiled clams in immediate airtight containers, the contents of which do not exceed 680 g gross weight.
1605.56.20 | Clams, prepared or preserved, excluding boiled clams, in immediate airtight containers, nesoi.
1605.56.30 | Clams, prepared or preserved, other than in airtight containers.
1605.56.60 | Cockles and arkshells, prepared or preserved.
1605.59.05 | Products of molluscs nesoi containing fish meat; prepared meals of molluscs nesoi.
1605.59.60 | Molluscs nesoi, prepared or preserved.

Part 3—Products of Germany, Spain, or the United Kingdom described below are subject to additional import duties of 25 percent ad valorem:

HTS subheading | Product description
0203.29.40 | Frozen meat of swine, other than retail cuts, nesoi.
0404.10.05 | Whey protein concentrates.
0406.10.84 | Fresh cheese, and substitutes for cheese, cont. cows milk, neosi, over 0.5 percent by wt. of butterfat, descr in add US note 16 to Ch 4, not GN15.
0406.10.88 | Fresh cheese, and substitutes for cheese, cont. cows milk, neosi, over 0.5 percent by wt. of butterfat, not descr in add US note 16 to Ch 4, not GN 15.
0406.10.95 | Fresh cheese, and substitutes for cheese, not cont. cows milk, neosi, over 0.5 percent by wt. of butterfat.
0406.90.16 | Edam and gouda cheese, nesoi, subject to additional US note 20 to Ch. 4.
0406.90.56 | Cheeses, nesoi, from sheep's milk in original loaves and suitable for grating.
1509.10.20 | Virgin olive oil and its fractions, whether or not refined, not chemically modified, weighing with the immediate container under 18 kg.
1509.90.20 | Olive oil, other than virgin olive oil, and its fractions, not chemically modified, weighing with the immediate container under 18 kg.
2005.70.12 | Olives, green, not pitted, in saline, not ripe.
2005.70.25 | Olives, green, in a saline solution, pitted or stuffed, not place packed.

Part 4—Products of Austria, Belgium, Bulgaria, Croatia, Cyprus, Czech Republic, Denmark, Estonia, Finland, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0403.10.90 | Yogurt, not in dry form, whether or not flavored or containing add fruit or cocoa.
0405.10.10 | Butter subject to quota pursuant to chapter 4 additional US note 6.
0405.10.20 | Butter not subject to general note 15 and in excess of quota in chapter 4 additional U.S. note 6.
0406.30.89 | Processed cheese (incl. mixtures), nesoi, w/cow's milk, not grated or powdered, subject to add US note 16 to Ch. 4, not subject to GN15.
0811.90.80 | Fruit, nesoi, frozen, whether or not previously steamed or boiled.
1601.00.20 | Pork sausages and similar products of pork, pork offal or blood; food preparations based on these products.
2008.60.00 | Cherries, otherwise prepared or preserved, nesoi.
2008.70.20 | Peaches (excluding nectarines), otherwise prepared or preserved, not elsewhere specified or included.
2008.97.90 | Mixtures of fruit or other edible parts of plants, otherwise prepared or preserved, nesoi (excluding tropical fruit salad).
2009.89.65 | Cherry juice, concentrated or not concentrated.
2009.89.80 | Juice of any single vegetable, other than tomato, concentrated or not concentrated.

Part 5—Products of Austria, Belgium, Bulgaria, Croatia, Cyprus, Czech Republic, Denmark, Estonia, Finland, France, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0405.20.30 | Butter substitute dairy spreads, over 45 percent butterfat weight, not subj to gen note 15 and in excess of quota in ch. 4 additional US note 14.
0405.20.80 | Other dairy spreads, not butter substitutes or of a type provided for in chapter 4 additional US note 1.
0406.30.85 | Processed cheese (incl. mixtures), nesoi, not over 0.5 percent by wt. butterfat, not grated or powdered, subject to Ch4 US note 23, not GN15.
0406.90.78 | Cheeses & subst. for cheese (incl. mixt.), nesoi, w/or from cheddar cheese, not subj. to add. US note 18 to Ch.4, not GN15.
1602.41.90 | Prepared or preserved pork hams and cuts thereof, not containing cereals or vegetables, nesoi.
1602.42.20 | Pork shoulders and cuts thereof, boned and cooked and packed in airtight containers.
1602.42.40 | Prepared or preserved pork shoulders and cuts thereof, other than boned and cooked and packed in airtight containers.
1602.49.40 | Prepared or preserved pork, not containing cereals or vegetables, nesoi.
1602.49.90 | Prepared or preserved pork, nesoi.

Part 6—Products of Austria, Belgium, Bulgaria, Croatia, Cyprus, Czech Republic, Denmark, Estonia, Finland, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS Subheading | Product Description
0405.90.10 | Fats and oils derived from milk, other than butter or dairy spreads, subject to quota pursuant to chapter 4 additional US note 14.
0406.30.51 | Gruyere-process cheese, processed, not grated or powdered, subject to additional US note 22 to Ch. 4.
0406.30.53 | Gruyere-process cheese, processed, not grated or powdered, not subject to gen note 15 or additional US note 22 to Ch. 4.
0406.40.54 | Blue-veined cheese, nesoi, in original loaves, subject to add. US note 17 to Ch. 4.
0406.90.08 | Cheddar cheese, neosi, subject to add. US note 18 to Ch. 4.
0406.90.12 | Cheddar cheese, nesoi, not subject to gen. note 15 of the HTS or to additional US note 18 to Ch. 4.
0406.90.41 | Romano, Reggiano, Parmesan, Provolone, and Provoletti cheese, nesoi, from cow's milk, subject to add. US note 21 to Ch. 4.
0406.90.42 | Romano, Reggiano, Parmesan, Provolone, and Provoletti cheese, nesoi, from cow's milk, not subj to GN 15 or Ch4 additional US note 21.
0406.90.48 | Swiss or Emmentaler cheese with eye formation, nesoi, not subject to gen. note 15 or to additional US note 25 to Ch. 4.
0406.90.90 | Cheeses & subst. for cheese (incl. mixt.), nesoi, w/or from swiss, emmentaler or gruyere, subj. to add. US note 22 to Ch.4, not GN15.
0406.90.97 | Cheeses & subst. for cheese (incl. mixt.), nesoi, w/cow's milk, w/butterfat over 0.5 percent by wt, not subject to Ch4 US note 16, not subject to GN15.
1605.53.60 | Mussels, prepared or preserved.
2007.99.70 | Currant and berry fruit jellies.
2008.40.00 | Pears, otherwise prepared or preserved, nesoi.
2009.89.20 | Pear juice, concentrated or not concentrated.

Part 7—Products of Austria, Belgium, Bulgaria, Croatia, Cyprus, Czech Republic, Denmark, Estonia, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
0406.90.46 | Swiss or Emmentaler cheese with eye formation, nesoi, subject to add. US note 25 to Ch. 4.

Part 8—Products of Austria, Belgium, Croatia, Cyprus, Czech Republic, Denmark, Estonia, Finland, Germany, Greece, Hungary, Ireland, Italy, Latvia, Lithuania, Luxembourg, Malta, Netherlands, Poland, Portugal, Romania, Slovakia, Slovenia, Spain, Sweden, or the United Kingdom described below are subject to additional import duties of 25 percent ad valorem:

HTS subheading | Product description
0406.90.57 | Pecorino cheese, from sheep's milk, in original loaves, not suitable for grating.

Part 9—Products of Austria, Belgium, Bulgaria, Croatia, Cyprus, Czech Republic, Denmark, Estonia, Finland, Germany, Greece, Hungary, Ireland, Italy, Latvia, Luxembourg, Malta, Netherlands, Portugal, Romania, Slovakia, Slovenia, Spain, Sweden, or the United Kingdom described below are subject to additional import duties of 25 percent ad valorem:

HTS subheading | Product description
0406.90.95 | Cheeses & subst. for cheese (incl. mixt.), nesoi, w/cows milk, w/butterfat over 0.5 percent by wt, subject to Ch 4 additional US note 16 (quota).

Part 10—Products of France, Germany, Spain or the United Kingdom described below are subject to additional import duties of 25 percent ad valorem:

HTS subheading | Product description
0711.20.18 | Olives, n/pitted, green, in saline sol., in contain. >8 kg, drained wt, for repacking or sale, subject to additional US note 5 to Ch. 7.
0711.20.28 | Olives, n/pitted, green, in saline sol., in contain. >8 kg, drained wt, for repacking or sale, not subject to additional US note 5 to Ch. 7.
0711.20.38 | Olives, n/pitted, nesoi.
0711.20.40 | Olives, pitted or stuffed, provisionally preserved but unsuitable in that state for immediate consumption.
2005.70.08 | Olives, green, not pitted, in saline, not ripe, in containers holding over kg for repkg, not subject to add. US note 4 to Ch. 20.
2005.70.16 | Olives, green, in saline, place packed, stuffed, in containers holding not over 1 kg, aggregate quantity n/o 2700 m ton/yr.
2005.70.23 | Olives, green, in saline, place packed, stuffed, not in containers holding 1 kg or less.
2204.21.50 | Wine other than Tokay (not carbonated), not over 14 percent alcohol, in containers not over 2 liters.

Part 11—Products of Germany described below are subject to additional import duties of 25 percent ad valorem:

HTS subheading | Product description
0901.21.00 | Coffee, roasted, not decaffeinated.
0901.22.00 | Coffee, roasted, decaffeinated.
1905.31.00 | Sweet biscuits.
2101.11.21 | Instant coffee, not flavored.
8201.40.60 | Axes, bill hooks and similar hewing tools (o/than machetes), and base metal parts thereof.
8203.20.20 | Base metal tweezers.
8203.20.60 | Pliers (including cutting pliers but not slip joint pliers), pincers and similar tools.
8203.30.00 | Metal cutting shears and similar tools, and base metal parts thereof.
8203.40.60 | Pipe cutters, bolt cutters, perforating punches and similar tools, nesoi, and base metal parts thereof.
8205.40.00 | Screwdrivers and base metal parts thereof.
8211.93.00 | Knives having other than fixed blades.
8211.94.50 | Base metal blades for knives having other than fixed blades.
8467.19.10 | Tools for working in the hand, pneumatic, other than rotary type, suitable for metal working.
8467.19.50 | Tools for working in the hand, pneumatic, other than rotary type, other than suitable for metal working.
8468.80.10 | Machinery and apparatus, hand-directed or -controlled, used for soldering, brazing or welding, not gas-operated.
8468.90.10 | Parts of hand-directed or -controlled machinery, apparatus and appliances used for soldering, brazing, welding or tempering.
8514.20.40 | Industrial or laboratory microwave ovens for making hot drinks or for cooking or heating food.
9002.11.90 | Objective lenses and parts & access. thereof, for cameras, projectors, or photographic enlargers or reducers, except projection, nesoi.

Part 12—Products of Austria, Belgium, Bulgaria, Croatia, Cyprus, Czech Republic, Estonia, Finland, Germany, Greece, Hungary, Ireland, Italy, Latvia, Lithuania, Luxembourg, Malta, Netherlands, Portugal, Romania, Slovakia, Slovenia, Spain, Sweden, or the United Kingdom described below are subject to additional import duties of 25 percent ad valorem:

HTS subheading | Product description
1602.49.20 | Pork other than ham and shoulder and cuts thereof, not containing cereals or vegetables, boned and cooked and packed in airtight containers.

Part 13—Products of Germany or the United Kingdom described below are subject to additional import duties of 25 percent ad valorem:

HTS subheading | Product description
1905.32.00 | Waffles and wafers.
4901.10.00 | Printed books, brochures, leaflets and similar printed matter in single sheets, whether or not folded.
4908.10.00 | Transfers (decalcomanias), vitrifiable.
4911.91.20 | Lithographs on paper or paperboard, not over 0.51 mm in thickness, printed not over 20 years at time of importation.
4911.91.30 | Lithographs on paper or paperboard, over 0.51 mm in thickness, printed not over 20 years at time of importation.
4911.91.40 | Pictures, designs and photographs, excluding lithographs on paper or paperboard, printed not over 20 years at time of importation.
8429.52.10 | Self-propelled backhoes, shovels, clamshells and draglines with a 360 degree revolving superstructure.
8429.52.50 | Self-propelled machinery with a 360 degree revolving superstructure, other than backhoes, shovels, clamshells and draglines.
8467.29.00 | Electromechanical tools for working in the hand, other than drills or saws, with self-contained electric motor.

Part 14—Products of Germany, Ireland, Italy, Spain, or the United Kingdom described below are subject to additional import duties of 25 percent ad valorem:

HTS subheading | Product description
2208.70.00 | Liqueurs and cordials.

Part 15—Products of the United Kingdom described below are subject to additional import duties of 25 percent ad valorem:

Note: For purposes of 2208.30.30, the product description defines and limits the scope of the proposed action.

HTS subheading | Product description
2208.30.30 ** | Single-malt Irish and Scotch Whiskies.
6110.11.00 | Sweaters, pullovers, sweatshirts, waistcoats (vests) and similar articles, knitted or crocheted, of wool.
6110.12.10 | Sweaters, pullovers, sweatshirts, waistcoats (vests) and similar articles, knitted or crocheted, of Kashmir goats, wholly of cashmere.
6110.20.20 | Sweaters, pullovers and similar articles, knitted or crocheted, of cotton, nesoi.
6110.30.30 | Sweaters, pullovers and similar articles, knitted or crocheted, of manmade fibers, nesoi.
6202.99.15 | Rec perf outwear, women's/girls' anoraks, wind-breakers & similar articles, not k/c, tex mats (not wool, cotton or mmf), cont <70 percent by wt of silk.
6202.99.80 | Women's/girls' anoraks, wind-breakers & similar articles, not k/c, of tex mats (not wool, cotton or mmf), cont <70% by wt of silk.
6203.11.60 | Men's or boys' suits of wool, not knitted or crocheted, nesoi, of wool yarn with average fiber diameter of 18.5 micron or less.
6203.11.90 | Men's or boys' suits of wool or fine animal hair, not knitted or crocheted, nesoi.
6203.19.30 | Men's or boys' suits, of artificial fibers, nesoi, not knitted or crocheted.
6203.19.90 | Men's or boys' suits, of textile mats (except wool, cotton or mmf), containing under 70 percent by weight of silk or silk waste, not knit or crocheted.
6208.21.00 | Women's or girls' nightdresses and pajamas, not knitted or crocheted, of cotton.
6211.12.40 | Women's or girls' swimwear, of textile materials (except mmf), containing 70% or more by weight of silk or silk waste, not knit or crocheted.
6211.12.80 | Women's or girls' swimwear, of textile materials (except mmf), containing under 70% by weight of silk or silk waste, not knit or crocheted.
6301.30.00 | Blankets (other than electric blankets) and traveling rugs, of cotton.
6301.90.00 | Blankets and traveling rugs, nesoi.
6302.21.50 | Bed linen, not knit or crocheted, printed, of cotton, cont any embroidery, lace, braid, edging, trimming, piping or applique work, n/napped.
6302.21.90 | Bed linen, not knit or croc, printed, of cotton, not cont any embroidery, lace, braid, edging, trimming, piping or applique work, not napped.
** Only a portion of HS8 digit is to be covered.

Part 16—Products of France or Germany described below are subject to additional import duties of 25 percent ad valorem:

HTS subheading | Product description
8214.90.60 | Butchers' or kitchen chopping or mincing knives (o/than cleavers w/their handles).
2007.99.05 | Lingonberry and raspberry jams.
2007.99.10 | Strawberry jam.
2007.99.15 | Currant and other berry jams, nesoi.
2007.99.20 | Apricot jam.
2007.99.25 | Cherry jam.
2007.99.35 | Peach jam.
2007.99.60 | Strawberry pastes and purees, being cooked preparations.

Part 17—Products of Austria, Belgium, Bulgaria, Croatia, Cyprus, Czech Republic, Denmark, Estonia, Finland, Germany, Hungary, Ireland, Italy, Latvia, Lithuania, Luxembourg, Malta, Netherlands, Portugal, Romania, Slovakia, Slovenia, Spain, Sweden, or the United Kingdom described below are subject to additional import duties of 25 percent ad valorem.

HTS subheading | Product description
0406.90.99 | Cheeses & subst. for cheese (incl. mixt.), nesoi, w/o cows milk, w/butterfat over 0.5 percent by wt, not subject to GN15.

[FR Doc. 2020-17973 Filed 8-17-20; 8:45 am]

BILLING CODE 3290-F0-P